FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than November 14, 2022.

A. Federal Reserve Bank of Dallas (Karen Smith, Director, Applications) 2200 North Pearl Street, Dallas, Texas 75201-2272:

1. Rosalie Miller Acree 1999 GST Trust FBO Michalyn Miller Ordeneaux (“Trust FBO Michalyn Miller Ordeneaux”); Rosalie Miller Acree 1999 GST Trust FBO Jacalyn Miller DeLange (“Trust FBO Jacalyn Miller DeLange”); Jacalyn Miller DeLange, individually and as co-trustee of the Trust FBO Michalyn Miller Ordeneaux and the Trust FBO Jacalyn Miller DeLange; Michalyn Miller Ordeneaux, individually and as co-trustee of the Trust FBO Michalyn Miller Ordeneaux and the Trust FBO Jacalyn Miller DeLange; Michalyn Miller Ordeneaux 2004 GST Trust, Roddy Keith Ordeneaux and Michala Ordeneaux Denton as co-trustees; and Jacalyn Miller DeLange Trust, Lindsey Miller DeLange Hagan, as trustee, all of Pearland, Texas; as a group acting in concert, to retain voting shares of Coastal Bancshares, Inc., Pearland, Texas, and thereby indirectly retain voting shares of Pearland State Bank, Pearland, Texas, and First National Bank of Alvin, Alvin, Texas.

B. Federal Reserve Bank of Kansas City (Jeffrey Imgarten, Assistant Vice President) 1 Memorial Drive, Kansas City, Missouri 64198-0001:

1. The Heather A. Dews Children's Trust, Randy Dews, as trustee, Kylie Dews, as voting proxy, and certain minor children of Roger Cattle, all of Lincoln, Nebraska; to join the Cattle Family Group, a group acting in concert, to retain voting shares of Cattle Crossing, Inc., and thereby indirectly retain voting shares of Cattle Bank & Trust, both of Seward, Nebraska.

Board of Governors of the Federal Reserve System.
Michele Taylor Fennell,
Deputy Associate Secretary of the Board.

[FR Doc. 2022-23538 Filed 10-27-22; 8:45 am]

BILLING CODE P